LEGAL SERVICES CORPORATION

Request for Comments—LSC Budget Request for FY 2013

AGENCY: Legal Services Corporation.

ACTION: Request for Comments—LSC Budget Request for FY 2013.

SUMMARY: The Legal Services Corporation is beginning the process of developing its FY 2013 budget request to Congress and is soliciting suggestions as to what the request should be.

DATES: Written comments will be accepted until 12 noon Eastern Time on June 15, 2011.

ADDRESSES: Written comments may be submitted by mail, fax or e-mail to David L. Richardson, Treasurer, Legal Services Corporation, 3333 K St., NW., Washington, DC 20007; 202-295-1630 (phone); 202-337-6834 (fax); david.richardson@lsc.gov.

FOR FURTHER INFORMATION CONTACT: David L. Richardson, Comptroller & Treasurer, Legal Services Corporation, 3333 K St., NW., Washington, DC 20007; 202-295-1510 (phone); 202-337-6834 (fax); david.richardson@lsc.gov.

SUPPLEMENTARY INFORMATION: The mission of the Legal Services Corporation (“LSC” or “Corporation”) is to promote equal access to justice in our Nation and to provide for high-quality civil legal assistance to low income persons. LSC submits an annual budget request directly to Congress and receives an annual direct appropriation to carry out its mission. For the current fiscal year, FY 2011, after a rescission, LSC received an appropriation of $404,190,000 of which $378,641,200 is for basic field programs and required independent audits; $4,191,600 is for the Office of Inspector General; $16,966,000 is for management and grants oversight; $3,393,200 is for technology initiative grants; and $998,000 is for loan repayment assistance. Public Law 112-10, 125 Stat. 38 (April 15, 2011).

As part of its annual budget and appropriation process, LSC notifies the Office of Management and Budget (“OMB”) in September as to what the LSC budget request to Congress will be for the next fiscal year. Accordingly, LSC is currently in the process of formulating its FY 2013 budget request. The Finance Committee of the LSC Board of Directors will meet on June 16, 2011, to hear testimony and commence deliberations on what to recommend to the full Board for adoption as the Corporation's FY 2013 budget request.

LSC invites public comment on what its FY 2013 budget request should be. Interested parties may submit comments to LSC by 12 noon Eastern Time on Wednesday, June 15, 2011. More information about LSC may be found at LSC's Web site: http://www.lsc.gov.

Dated: June 3, 2011.
Victor M. Fortuno,
Vice President & General Counsel.

[FR Doc. 2011-14368 Filed 6-9-11; 8:45 am]

BILLING CODE 7050-01-P